NUCLEAR REGULATORY COMMISSION

Advisory Committee on the Medical Uses of Isotopes: Meeting Notice

AGENCY: U.S. Nuclear Regulatory Commission.

ACTION: Notice of meeting.

SUMMARY: The U.S. Nuclear Regulatory Commission will convene a teleconference meeting of the Advisory Committee on the Medical Uses of Isotopes (ACMUI) on August 16, 2007. This meeting is a continuation of the discussion of training and experience implementation issues in the medical community, from the June 12, 2007, ACMUI meeting. The meeting will be a discussion of various items related to the training and experience criteria in 10 CFR part 35, to include, but not limited to: the preceptor statement and the issue of the non-availability of preceptors; radiation safety officer requirements; and the grandfathering of diplomates. A copy of the agenda for the meeting can be obtained at http://www.nrc.gov/reading-rm/doc-collections/acmui/agenda or by contacting Ashley M. Tull at the contact information below.

DATE: The teleconference meeting will be held on Thursday, August 16, 2007, from 1 p.m. to 3:30 p.m Eastern Daylight Time.

PUBLIC PARTICIPATION: Any member of the public who wishes to participate in the teleconference discussion may contact Ashley M. Tull using the contact information below.

FOR FURTHER INFORMATION CONTACT: Ashley M. Tull, telephone (301) 415-5294; e-mail: amt1@nrc.gov; of the Office of Federal and State Materials and Environmental Management Programs, U.S. Nuclear Regulatory Commission, Mail Stop T8-E 24, Washington, DC 20555-0001.

Conduct of the Meeting

Leon S. Malmud, M.D., will chair the meeting. Dr. Malmud will conduct the meeting in a manner that will facilitate the orderly conduct of business. The following procedures apply to public participation in the meeting:

1. Persons who wish to provide a written statement should submit an electronic copy or mail a reproducible copy to Ms. Tull at the contact information listed above. All submittals must be postmarked by August 14, 2007, and must pertain to the topic on the agenda for the meeting.

2. Questions from members of the public will be permitted during the meeting, at the discretion of the Chairman.

3. The transcript and written comments will be available for inspection on NRC's Web site (www.nrc.gov) and at the NRC Public Document Room, 11555 Rockville Pike, Rockville, MD 20852-2738, telephone (800) 397-4209, on or about November 16, 2007. Minutes of the meeting will be available on or about September 17, 2007.

This meeting will be held in accordance with the Atomic Energy Act of 1954, as amended (primarily Section 161a); the Federal Advisory Committee Act (5 U.S.C. App); and the Commission's regulations in Title 10, U.S. Code of Federal Regulations, Part 7.

Dated: July 25, 2007.
Andrew L. Bates,
Advisory Committee Management Officer.

[FR Doc. E7-14715 Filed 7-30-07; 8:45 am]

BILLING CODE 7590-01-P